DEPARTMENT OF STATE

[Public Notice: 10851]

Defense Trade Advisory Group; Notice of Open Meeting

The Defense Trade Advisory Group (DTAG) will meet in open session from 1:00 p.m. until 5:00 p.m. on Thursday, September 26, 2019 at 1777 F Street NW, Washington, DC 20006. Entry and registration will begin at 12:30 p.m. The membership of this advisory committee consists of private sector defense trade representatives, appointed by the Assistant Secretary of State for Political-Military Affairs, who advise the Department on policies, regulations, and technical issues affecting defense trade. The DTAG was established as an advisory committee under the authority of 22 U.S.C. Sections 2651a and 2656 and the Federal Advisory Committee Act, 5 U.S.C. App. The purpose of the meeting will be to discuss current defense trade issues and topics for further study. The following agenda topics will be discussed and final reports presented: (1) Review Consent Agreements from the past eight years and identify additional compliance remedial measures and/or areas for possible improvement to compliance programs for purposes of enhancing the effectiveness of remedial measures prescribed in future consent agreements. (2) Evaluate authorizations involving third party technical/proprietary data, provide industry perceptions/problems, and where appropriate make recommendations for improvements; and provide any concerns industry has with other parties exporting or re-exporting their technical data or intellectual property without their knowledge, and provide recommendations. (3) Identify current challenges with participation in established international cooperative programs and other arrangements; and recommend potential solutions that would reduce licensing challenges and enhance collaboration among the industrial bases of the participating nations, while preserving the critical task of protecting U.S. technology. Members of the public may attend this open session and will be permitted to participate in the question and answer discussion period following the formal DTAG presentation on each agenda topic in accordance with the Chair's instructions. Members of the public may also submit a brief statement (less than 3 pages) to the committee in writing for inclusion in the public minutes of the meeting. As seating is limited to 125 persons, each member of the public that wishes to attend this session must provide: Name, contact information such as email address and/or phone number and any request for reasonable accommodation to the DTAG Alternate Designated Federal Officer (DFO), Karen Wrege, via email at DTAG@state.gov by COB Monday, September 9, 2018. If notified after this date, the Department might not be able to accommodate requests due to requirements at the meeting location. One of the following forms of valid photo identification will be required for admission to the meeting: U.S. driver's license, passport, U.S. Government ID or other valid photo ID.

FOR FURTHER INFORMATION CONTACT: Ms. Barbara Eisenbeiss, PM/DDTC, SA-1, 12th Floor, Directorate of Defense Trade Controls, Bureau of Political-Military Affairs, U.S. Department of State, Washington, DC 20522-0112; telephone (202) 663-2835 or email DTAG@state.gov.

Karen M. Wrege,
Alternate Designated Federal Officer, Defense Trade Advisory Group, U.S. Department of State.

[FR Doc. 2019-17549 Filed 8-19-19; 8:45 am]

BILLING CODE 4710-25-P